SOCIAL SECURITY ADMINISTRATION

[Docket No. SSA 2015-0060]

Privacy Act of 1974, as Amended; Computer Matching Program (SSA/Department of the Treasury, the Bureau of the Fiscal Service (Fiscal Service)—Match Number 1038

AGENCY: Social Security Administration (SSA).

ACTION: Notice of a renewal of an existing computer matching program that will expire on June 25, 2016.

SUMMARY: In accordance with the provisions of the Privacy Act, as amended, this notice announces a renewal of an existing computer matching program that we are currently conducting with Fiscal Service.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, Social Security Administration, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Pub. L. 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Glenn Sklar,
Acting Executive Director, Office of Privacy and Disclosure, Office of the General Counsel.

Notice of Computer Matching Program, SSA With the Department of the Treasury, the Bureau of the Fiscal Service (Fiscal Service)

A. Participating Agencies

SSA and Fiscal Service.

B. Purpose of the Matching Program

The purpose of this matching program sets forth the terms, conditions, safeguards, and procedures under which Fiscal Service will disclose savings security data to us. We will use the data to determine continued eligibility for Supplemental Security Income (SSI) applicants and recipients, or the correct benefit amount for recipients and deemors who did not report or incorrectly reported ownership of savings securities.

C. Authority for Conducting the Matching Program

The legal authority for this matching program is executed under the Privacy Act of 1974, 5 United States Code (U.S.C.) 552a, as amended by the Computer Matching and Privacy Protection Act of 1988, as amended, and the regulations and guidance promulgated thereunder.

The legal authority for us to conduct this matching program is contained in 1631(e)(1)(B), and 1631(f) of the Social Security Act (Act), (42 U.S.C. 1383(e)(1)(B), and 1383(f)).

D. Categories of Records and Persons Covered by the Matching Program

The relevant SSA system of records (SOR) is “Supplemental Security Income Record and Special Veterans Benefits, Social Security Administration, Office of Systems, Office of Disability and Supplemental Security Income Systems,” 60-0103, fully published on January 11, 2006 at 71 FR 1830 and updated on December 10, 2007 at 72 FR 69723. The relevant Fiscal Service SORs are Treasury/BPD.002, United States Savings Type Securities, and Treasury/BPD.008, Retail Treasury Securities Access Application. These SORs were last published on August 17, 2011 at 76 FR 51128.

The finder file we provide to Fiscal Service will contain approximately 10 million records of individuals for whom we request data for the administration of the SSI program. Fiscal Service will use files that contain approximately 185 million Social Security numbers (SSNs), with registration indexes, to match our records. Fiscal Service will provide a response record providing match results to us, which will contain approximately 1.8 million records.

Exchanges for this computer matching program will occur twice a year, in approximately February and August. We will furnish Fiscal Service with the SSN and name for each individual when requesting savings-securities registration information. When a match occurs on an SSN, Fiscal Service will disclose the following to us from Treasury/BPD.002:

a. The denomination of the security;

b. The serial number;

c. The series;

d. The issue date of the security;

e. The current redemption value; and

f. The return date of the finder file.

We will furnish Fiscal Service with the SSN and name for each individual when requesting savings-securities registration information. The finder file will contain the SSN associated with the account and report account holdings. When a match occurs on an SSN, Fiscal Service will disclose the following to us from Treasury/BPD.008:

a. The purchase amount;

b. The account number and confirmation number;

c. The series;

d. The issue date of the security;

e. The current redemption value; and

f. The return date of the finder file.

E. Inclusive Dates of the Matching Program

The effective date of this matching program is June 26, 2016, provided that the following notice periods have lapsed: 30 days after publication of this notice in the Federal Register and 40 days after notice of the matching program is sent to Congress and OMB. The matching program will continue for 18 months from the effective date and, if both agencies meet certain conditions, it may extend for an additional 12 months thereafter.

[FR Doc. 2016-11175 Filed 5-11-16; 8:45 am]

BILLING CODE 4191-02-P